NATIONAL CREDIT UNION ADMINISTRATION

Sunshine Act; Notice of Agency Meeting

TIME AND DATE: 10:00 a.m., Thursday, June 21, 2012.

PLACE: Board Room, 7th Floor, Room 7047. 1775 Duke Street (All visitors must use Diagonal Road Entrance), Alexandria, VA 22314-3428.

STATUS: Open.

MATTERS TO BE CONSIDERED: 1. NCUA's Rules and Regulations, Credit Union Service Organizations.

RECESS: 10:45 a.m.

TIME AND DATE: 11:00 a.m., Thursday, June 21, 2012.

PLACE: Board Room, 7th Floor, Room 7047, 1775 Duke Street, Alexandria, VA 22314-3428.

STATUS: Closed.

MATTERS TO BE CONSIDERED: 1. Consideration of Supervisory Activities (5). Closed pursuant to exemptions (8), (9)(i)(B) and 9(ii).

2. Personnel. Closed pursuant to Exemption (2).

FOR FURTHER INFORMATION CONTACT: Mary Rupp, Secretary of the Board, Telephone: 703-518-6304.

Mary Rupp,
Board Secretary.

[FR Doc. 2012-14945 Filed 6-14-12; 4:15 pm]

BILLING CODE 7535-01-P